DEPARTMENT OF DEFENSE

Office of the Secretary

32 CFR Part 232

[DOD-2013-OS-0133]

RIN 0790-AJ10

Limitations on Terms of Consumer Credit Extended to Service Members and Dependents

AGENCY: Under Secretary of Defense for Personnel and Readiness, Department of Defense.

ACTION: Proposed rule; extension of comment period.

SUMMARY: The Department of Defense has proposed an amendment to its regulation that implements the Military Lending Act. The proposed amendment was published on September 29, 2014, with comments due on November 28, 2014. This document extends the date for the receipt of comments until December 26, 2014.

DATES: The comment period for the proposed rule published on September 29, 2014 (79 FR 58601), is extended. Comments must be submitted not later than December 26, 2014.

ADDRESSES: You may submit comments, identified by docket number and/or Regulatory Information Number (RIN) and title, by any of the following methods;

• Federal eRulemaking Portal: http://www.regulations.gov. Follow the instructions for submitting comments.

• Mail: Federal Docket Management System Office, 4800 Mark Center Drive, 2nd Floor, East Tower, Suite 02G09, Alexandria, VA 22350-3100.

Instructions: All submissions received must include the agency name and docket number or RIN for this Federal Register document. The general policy for comments and other submissions from members of the public is to make these submissions available for public viewing on the Internet at http://www.regulations.gov as they are received without change, including any personal identifiers or contact information.

FOR FURTHER INFORMATION CONTACT: Marcus Beauregard, 571-372-5357.

SUPPLEMENTARY INFORMATION: The Department is extending the comment period after receiving requests from several organizations. These organizations expressed that they would not have sufficient time to adequately cover their concerns. The Department believes this extension will allow the public the additional time they have requested to be able to review the proposal and provide feedback on the questions asked in the proposal.

Dated: November 19, 2014.
Aaron Siegel,
Alternate OSD Federal Register Liaison Officer, Department of Defense.

[FR Doc. 2014-27716 Filed 11-24-14; 8:45 am]

BILLING CODE 5001-06-P